DEPARTMENT OF TRANSPORTATION

Research and Innovative Technology Administration

Notice of Competition for University Transportation Centers (UTC) Program Grants

AGENCY: Research and Innovative Technology Administration, DOT.

ACTION: Notice.

SUMMARY: The Research and Innovative Technology Administration (RITA) of the U.S. Department of Transportation (U.S. DOT) is providing notice that it intends to conduct a competition for University Transportation Centers (UTC) Program grants for the purpose of performing multi-modal and multidisciplinary research, education and technology transfer activities supportive of Departmental priorities.

Proposals will be evaluated through a competitive process on the basis of demonstrated ability, research, technology and education resources, leadership, multi-modal research capability, commitment to transportation workforce development programs, technology transfer capability, the use of peer review, and effective partnerships to advance diversity.

The Research and Innovative Technology Administration RITA will release a detailed notice for these funds.

FOR FURTHER INFORMATION CONTACT: Curtis Tompkins, Office of Research, Development and Technology, mail code RDT-30, Research and Innovative Technology Administration RITA, 1200 New Jersey Avenue, SE., Washington, DC 20590. Telephone Number (202) 366-5661 or E-mail Curtis.Tompkins@dot.gov.

SUPPLEMENTARY INFORMATION: The Safe, Accountable, Flexible, Efficient Transportation Equity Act: A Legacy for Users (SAFETEA-LU, Pub. L. 109-59 section 7301, as amended by Pub. L. 110-244) authorizes the Administrator of the Research and Innovative Technology Administration (RITA) of the U.S. Department of Transportation (U.S. DOT) to enter into grants and cooperative agreements to conduct research into transportation service and infrastructure assurance and to carry out other research activities of RITA. The UTC Program will adhere to the structure and criteria outlined in SAFETEA-LU for competitive UTC Program grants.

Issued in Washington, DC, on June 17, 2011.
Curtis J. Tompkins,
Acting Associate Administrator for Research, Development and Technology.

[FR Doc. 2011-15688 Filed 6-23-11; 8:45 am]

BILLING CODE 4910-HY-P